DEPARTMENT OF COMMERCE

Submission for OMB Review; Comment Request

The Department of Commerce will submit to the Office of Management and Budget (OMB) for clearance the following proposal for collection of information under the provisions of the Paperwork Reduction Act (44 U.S.C. Chapter 35).

Agency: National Telecommunications and Information Administration (NTIA).

Title: Application for the Digital-to-Analog Converter Box Coupon.

Form Number(s): DTV-1.

OMB Approval Number: None.

Type of Review: Regular submission.

Burden Hours: 27,500,000.

Number of Respondents: 110,000,000.

Average Hours Per Response: 15 minutes.

Needs and Uses: NTIA is required to create a program to provide coupons for consumers to purchase digital-to-analog converter boxes. These converter boxes are necessary for consumers who wish to continue receiving broadcast programming over-the-air using analog-only television sets after February 17, 2009—the date that television stations are required by law to cease analog broadcasting. As part of this program, eligible U.S. households may obtain a maximum of two coupons of $40 each (valid for three months after issuance) to be applied towards the purchase of a digital-to-analog converter box(es).

Affected Public: Individuals or households.

Frequency: One-time-only.

Respondent's Obligation: Required to obtain or retain benefits.

OMB Desk Officer: Jasmeet Seehra, (202) 395-3123.

Copies of the above information collection proposal can be obtained by calling or writing Diana Hynek, Departmental Paperwork Clearance Officer, (202) 482-0266, Department of Commerce, Room 6625, 1401 Constitution Avenue, NW., Washington, DC 20230 (or via the Internet at dHynek@doc.gov).

Written comments and recommendations for the proposed information collection should be sent within 30 days of publication of this notice to Jasmeet Seehra, OMB Desk Officer, Fax number, (202) 395-5167 or via the Internet at Jasmeet_K._Seehra@omb.eop.gov.

Dated: August 16, 2007.
Gwellnar Banks,
Management Analyst, Office of the Chief Information Officer.

[FR Doc. E7-16545 Filed 8-21-07; 8:45 am]

BILLING CODE 3510-60-P